FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than September 27, 2007.

A. Federal Reserve Bank of Atlanta (David Tatum, Vice President) 1000 Peachtree Street, N.E., Atlanta, Georgia 30309:

1. Leandre Joseph Folse; Bonnie Jane Folse; Mark Phillip Folse; Todd John Folse; and the Folse Family Voting Trust; Leandre Joseph Folse; Bonnie Jane Folse; and Mark Phillip Folse, trustees; all of Houma, Louisiana; Carrie Jane Folse, Birmingham, Alabama; The Myrtis Folse Lucas Revocable Trust; Mytris Folse Lucas, grantor; and The Joe W. Smith Revocable Trust, all of Tulsa, Oklahoma; Joe W. Smith, grantor and trustee; to acquire additional voting shares of Coastal Commerce Bancshares, and thereby indirectly acquire additional voting shares of Coastal Commerce Bank, both of Houma, Louisiana.

Board of Governors of the Federal Reserve System, September 7, 2007.
Robert deV. Frierson,
Deputy Secretary of the Board.

[FR Doc. E7-17942 Filed 9-11-07; 8:45 am]

BILLING CODE 6210-01-S